DEPARTMENT OF THE INTERIOR

National Park Service

[NPS-WASO-NAGPRA-NPS0038351; PPWOCRADN0-PCU00RP14.R50000]

Notice of Inventory Completion: U.S. Department of the Interior, Bureau of Reclamation, Oklahoma-Texas Area Office, Oklahoma City, OK

AGENCY: National Park Service, Interior.

ACTION: Notice.

SUMMARY: In accordance with the Native American Graves Protection and Repatriation Act (NAGPRA), the U.S. Department of the Interior, Bureau of Reclamation, Oklahoma-Texas Area Office (OTAO) (Reclamation) has completed an inventory of human remains and has determined that there is a cultural affiliation between the human remains and Indian Tribes or Native Hawaiian organizations in this notice.

DATES: Repatriation of the human remains in this notice may occur on or after August 29, 2024.

ADDRESSES: Send written requests for repatriation of human remains to Kate Ellison, Bureau of Reclamation, 5924 NW 2nd Street, Suite 200, Oklahoma City, OK 73127-6514, or by email to kellison@usbr.gov.

FOR FURTHER INFORMATION CONTACT: Kate Ellison, Bureau of Reclamation, at telephone (405) 470-4816, or by email to kellison@usbr.gov. Individuals who are deaf, deafblind, hard of hearing, or have a speech disability may dial 711 (TTY, TDD, or TeleBraille) to access telecommunications relay services. Individuals outside the United States should use the relay services offered within their country to make international calls to the point-of-contact in the United States.

SUPPLEMENTARY INFORMATION: This notice is published as part of the National Park Service's administrative responsibilities under NAGPRA. The determinations in this notice are the sole responsibility of Reclamation, and additional information on the determinations in this notice, including the results of consultation, can be found in its inventory or related records. The National Park Service is not responsible for the determinations in this notice.

Abstract of Information Available

Human remains representing, at least, 13 individuals have been identified. No associated funerary objects are present. A contractor conducted an inventory of artifacts and human remains for Reclamation in 2023 at the Museum of the Great Plains in Lawton, Oklahoma. The artifacts and human remains were recovered by local collectors from the W.C. Austin Project (Lake Altus), Oklahoma before 1990.

34GR—

Human remains representing one individual were found in a box with mixed rock and ground stone from Greer County, Oklahoma. No associated funerary objects are present.

Human remains representing one individual were found in a box among faunal bones from Greer County, Oklahoma. No associated funerary objects are present.

34GR3

Human remains representing one individual were found in a box with archeological artifacts. No associated funerary objects are present.

34GR4—Rattlesnake Slough

Human remains representing one individual were found in a box with archeological artifacts. No associated funerary objects are present.

34GR6

Human remains representing eight individuals were found in a box with archeological artifacts. No associated funerary objects are present.

Radiocarbon dating performed in 1985 at site 34GR6 identified that the site was occupied during the two periods: 1,270 ±90 B.P. and 1,390 ±90 B.P. The 120-year gap between the two dates is a reasonable period for a single group to occupy a location.

34GR8—Taylor

Human remains representing one individual were found in a box with archeological artifacts. No associated funerary objects are present.

Cultural Affiliation

Based on the information available and the results of consultation, cultural affiliation is reasonably identified by the geographical location or acquisition history of the human remains described in this notice.

Determinations

Reclamation has determined that:

• The human remains described in this notice represent the physical remains of 13 individuals of Native American ancestry.

• There is a connection between the human remains described in this notice and the Wichita and Affiliated Tribes (Wichita, Keechi, Waco, & Tawakonie), Oklahoma.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains described in this notice to a requestor may occur on or after August 29, 2024. If competing requests for repatriation are received, Reclamation must determine the most appropriate requestor prior to repatriation. Requests for joint repatriation of the human remains are considered a single request and not competing requests. Reclamation is responsible for sending a copy of this notice to the Indian Tribes and Native Hawaiian organizations identified in this notice.

Authority: Native American Graves Protection and Repatriation Act, 25 U.S.C. 3003, and the implementing regulations, 43 CFR 10.10.

Dated: July 17, 2024.
Melanie O'Brien,
Manager, National NAGPRA Program.

[FR Doc. 2024-16707 Filed 7-29-24; 8:45 am]

BILLING CODE 4312-52-P